DEPARTMENT OF ENERGY

Federal Energy Regulatory Commission

Notice of Commission Staff Attendance at North American Electric Reliability Corporation (NERC) Meetings from January-June 2011

The Federal Energy Regulatory Commission hereby gives notice that members of the Commission and Commission staff may attend the following NERC related meetings:

• NERC Planning Committee Meetings and its sub-committee meetings on, but not limited to:

○ Wednesday-Thursday, February 9-10 Charlotte, NC (2)

○ Tuesday-Wednesday, March 8-9, Phoenix Convention Center—North Building, Phoenix, AZ (3)

○ Thursday, March 10 Teleconference (TBD)

○ Wednesday-Thursday, April 6-7 Las Vegas, NV (2)

○ Tuesday-Wednesday, June 7-8 Toronto, ON, Canada (2)

○ Tuesday-Thursday, June 28-30 Austin, TX (3)

• NERC Operating Committee Meetings and its sub-committee meetings on, but not limited to:

○ Tuesday-Wednesday, March 8-9, Phoenix Convention Center—North Building, Phoenix, AZ (2)

○ Tuesday-Wednesday, June 7-8 Toronto, ON, Canada (2)

• NERC Standards Committee Meetings and its sub-committee meetings on, but not limited to:

○ Friday, February 11 Teleconference (1)

○ Thursday, March 10 Teleconference (1)

○ Wednesday-Thursday, April 13-14 Salt Lake City, UT (2)

○ Thursday, May 12 Teleconference (1)

○ Thursday, June 9 Teleconference (1)

• NERC Member Representative Committee Meetings and its sub-committee meetings on, but not limited to:

○ Wednesday, February 16, Hyatt Regency Phoenix, Phoenix, AZ (1)

○ Tuesday, May 10 Arlington, VA (1)

• NERC Board of Trustees Meetings and its sub-committee meetings on, but not limited to:

○ Wednesday-Thursday, February 16-17, Hyatt Regency Phoenix, Phoenix, AZ (2)

○ Tuesday-Wednesday, May 10-11 Arlington, VA (2)

• NERC Finance and Audit Committee Meetings on, but not limited to:

○ Wednesday, February 9 Teleconference (1)

○ Tuesday, May 10, Washington, DC (1)

• Critical Infrastructure Protection Committee Quarterly Meetings and its sub-committee meetings on, but not limited to:

○ Wednesday-Thursday, March 9-10, Phoenix Convention Center—North Building, Phoenix, AZ (2)

○ Wednesday-Thursday, June 8-9 Phoenix, AZ (TBD)

The meetings will be held at the following locations:

1. North American Electric Reliability Corporation, 116-390 Village Boulevard, Princeton, NJ 08540, 609-452-8060.

2. Western Electricity Coordination Council, 155 North 400 West, Suite 200, Salt Lake City, UT 84103.

3. Electric Reliability Council of Texas (ERCOT)—ERCOT MET Center, 7620 Metro Center Drive, Austin, TX 78744.

4. Oncor Electric Delivery Building, 115 W. 7th St., Room 1025, Fort Worth, TX 76102.

5. The SERC Reliability Corporation, 2815 Coliseum Centre Drive, Suite 500, Charlotte, NC 28217.

6. NV Energy—Beltway Complex, 7155 Lindell Road, Las Vegas, NV 89118.

7. Toronto Airport Marriott, 901 Dixon Road, Toronto, ON, Canada.

8. Phoenix Convention Center—North Building, 100 North Street, Phoenix, AZ 85004.

9. Hyatt Regency Phoenix, 122 N Street, Phoenix, AZ 85004.

10. Westin Arlington Gateway, 801 North Glebe Road, Arlington, VA 22203.

Further information may be found at: http://www.nerc.com.

The above-referenced meetings are open to the public.

For more information, contact: Mary Agnes Nimis, Office of Electric Reliability, Federal Energy Regulatory Commission at (202) 502-8235 or maryagnesnimis@ferc.gov or Tim Friel, Office of Electric Reliability, Federal Energy Regulatory Commission at (202) 502-6447 or tim.friel@ferc.gov.

Dated: February 4, 2011.
Kimberly D. Bose,
Secretary.

[FR Doc. 2011-3156 Filed 2-10-11; 8:45 am]

BILLING CODE 6717-01-P